DEPARTMENT OF TRANSPORTATION

Federal Aviation Administrator

Notice of Passenger Facility Charge (PFC) Approvals and Disapprovals

AGENCY: Federal Aviation Administration (FAA), DOT.

ACTION: Monthly Notice of PFC Approvals and Disapprovals. In January 2004, there were three applications approved. This notice also includes information on one application, approved in November 2003, inadvertently left off the November 2003 notice. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph (d) of § 158.29.

PFC Applications Approved

Public Agency: Salt Lake City Department of Airports, Salt Lake City, Utah.

Application Number: 03-07-C-00-SLC.

Application Type: Impose and use a PFC.

PFC Level: $4.50.

Total PFC Revenue Approved in This Decision: $68,667,132.

Earliest Charge Effective Date: June 1, 2004.

Estimated Charge Expiration Date: August 1, 2006.

Class of Air Carriers Not Required To Collect PFC's: Air taxi/commuter operators filing FAA Form 1800-31.

Determination: Approved. Based on information submitted in the public agency's application, the FAA has determined that the approved class accounts for less than 1 percent of the total annual enplanements at Salt Lake City International Airport.

Brief Description of Project Approved for Collection and Use: West runway 16R/34L.

Decision Date: November 19, 2003.

FOR FURTHER INFORMATION CONTACT: Christopher Schaffer, Denver Airports District Office, (303) 342-1258.

Public Agency: Dallas-Fort Worth International Airport Board, Dallas/Fort Worth, Texas.

Application Number: 03-07-C-00-DFW.

Application Type: Impose and use a PFC.

PFC Level: $4.50.

Total PFC Revenue Approved in This Decision: $59,604,952.

Earliest Charge Effective Date: October 1, 2013.

Estimated Charge Expiration Date: March 1, 2014.

Class of Air Carriers Not Required To Collect PFC's: All air taxi/commercial operators.

Determination: Approved. Based on information submitted in the public agency's application, the FAA has determined that the approved class accounts for less than 1 percent of the total annual enplanements at Dallas-Fort Worth International Airport.

Brief Description of Project Approved for Collection and Use: Air Transportation and Security Act compliance.

Decision Date: January 21, 2004.

FOR FURTHER INFORMATION CONTACT: G. Thomas Wade, Southwest Region Airports Division, (817) 222-5613.

Public Agency: Clearfield-Jefferson Counties Airport Authority, Falls Creek, Pennsylvania.

Application Number: 04-04-C-00-DUJ.

Application Type: Impose and use a PFC.

PFC Level: $4.50.

Total PFC Revenue Approved in This Decision: $325,413.

Earliest Charge Effective Date: April 1, 2004.

Estimated Charge Expiration Date: October 1, 2013.

Class of Air Carriers Not Required To Collect PFC's: Non-scheduled on-demand air carriers filing FAA Form 1800-31.

Determination: Approved. Based on information submitted in the public agency's application, the FAA has determined that the approved class accounts for less than 1 percent of the total annual enplanements at Dubois-Jefferson County Airport.

Brief Description of Projects Approved for Collection and Use:

Airport master plan.

Wildlife hazard assessment.

Runway safety areas—runway 7 end.

Electrical vault.

Snow removal equipment.

High inensity runway lighting.

Aircraft rescue and firefighting building.

Aircraft rescue and firefighting vehicle.

Replace security card gates.

Expand terminal apron.

Security enhancements.

Improve runway 25 safety area (land acquisition) phase I.

PFC application/formulation.

Decision Date: January 27, 2004.

FOR FURTHER INFORMATION CONTACT: Lori Ledebohm, Harrisburg Airports District Office, (717) 730-2835.

Public Agency: City of San Jose, California.

Application Number: 04-14-C-00-SJC.

Application Type: Impose and use a PFC.

PFC Level: $4.50.

Total PFC Revenue Approved in This Decision: $97,197.000.

Earliest Charge Effective Date: August 1, 2014.

Estimated Charge Expiration Date: September 1, 2017.

Class of Air Carriers Not Required To Collect PFC'S: Nonscheduled/on-demand air carriers filing FAA Form 1800-31.

Determination: Approved. Based on information submitted in the public agency's application, the FAA has determined that the approved class accounts for less than 1 percent of the total annual enplanements at Norman Y. Mineta San Jose International Airport.

Brief Description of Project Approved for Collection and Use: Taxiway Y reconstruction.

Decision Date: January 29, 2004.

FOR FURTHER INFORMATION CONTACT: Marlys Lingsch, San Francisco Airports District Office, (650) 876-2806.

Amendments to PFC Approvals:

Amendment No. city, state | Amendment approved date | Original approved net PFC revenue | Amended approved net PFC revenue | Original estimated charge exp. date | Amended estimated charge exp. date
*99-01-C0-2-FAI Fairbanks, AK | 12/31/03 | $5,460,000 | $5,460,000 | 03/01/06 | 10/01/06
*95-04-C-02-AUS Austin, TX | 01/09/04 | 333,232,479 | 343,074,546 | 07/01/20 | 01/01/20
98-01-C-02-JNU Juneau, AK | 01/12/04 | 1,172,772 | 1,186,073 | 08/01/00 | 08/01/00
01-01-C-01-SFO San Francisco, CA | 01/21/04 | 112,738,745 | 0 | 01/01/04 | 01/01/04
95-03-C-02-SBP San Luis Obispo, CA | 01/21/04 | 711,439 | 571,447 | 05/01/97 | 05/01/97
99-05-C-01-SBP San Luis Obispo, CA | 01/21/04 | 1,229,113 | 1,040,111 | 07/01/15 | 07/01/15
98-01-C-01-EKO Elko, NV | 01/21/04 | 774,635 | 595,051 | 02/01/01 | 02/01/01
95-03-C-02-MF Medford, OR | 01/21/04 | 2,082,935 | 2,192,466 | 06/01/04 | 09/01/04
(Note: The amendments denoted by an asterisk (*) include a change to the PFC level charged from $3.00 per enplaned passenger to $4.50 per enplaned passenger. For Fairbanks, AK and Austin, TX, this change is effective on April 1, 2004.

Issued in Washington, DC on March 18, 2004.
JoAnn Horne,
Manager, Financial Analysis and Passenger Facility Charge Branch.

[FR Doc. 04-6752 Filed 3-25-04; 8:45 am]

BILLING CODE 4910-13-M